FEDERAL COMMUNICATIONS COMMISSION

47 CFR Part 73

[DA 00-1577; MM Docket No. 98-86; RM-9284, RM-9671]

Radio Broadcasting Services; Wamsutter and Bairoil, WY

AGENCY: Federal Communications Commission.

ACTION: Final rule.

SUMMARY: The Commission, at the request of Mountain Tower Broadcasting, allots Channel 261C to Wamsutter, Wyoming as the community's first local aural service; and, at the request of Mount Rushmore Broadcasting, Inc., allots Channel 266A to Wamsutter as a second local aural service, and Channel 265A at Bairoil, Wyoming as the community's first local aural service. See 63 FR 34621 (June 25, 1998).

Channel 261C can be allotted to Wamsutter in compliance with the Commission's minimum distance separation requirements, with respect to domestic allotments, with a site restriction of 23.4 kilometers (14.6 miles) at coordinates 41-44-00 and 108-14-27. Channel 266A can be allotted at Wamsutter without the imposition of a site restriction, at coordinates 41-40-18 and 107-58-18; and Channel 265A can be allotted at Bairoil without the imposition of a site restriction, at coordinates 42-14-42 and 107-33-24. Filing windows for Channels 261C and 266A at Wamsutter and 265A at Bairoil will not be opened at this time. Instead, the issue of opening a filing window for each channel will be addressed by the Commission in a subsequent Order.

DATES: Effective August 28, 2000.

ADDRESSES: Federal Communications Commission, Washington, DC 20554.

FOR FURTHER INFORMATION CONTACT: Victoria M. McCauley, Mass Media Bureau, (202) 418-2180.

SUPPLEMENTARY INFORMATION: This is a synopsis of the Commission's Report and Order, MM Docket No. 98-86, adopted July 5, 2000, and released July 14, 2000. The full text of this Commission decision is available for inspection and copying during normal business hours in the FCC Reference Center (Room 239), 445 12th Street, SW., Washington, DC. The complete text of this decision may also be purchased from the Commission's copy contractor, International Transcription Services, Inc., (202) 857-3800, 1231 20th Street, NW., Washington, DC 20036.

List of Subjects in 47 CFR Part 73

Radio broadcasting.

Part 73 of Title 47 of the Code of Federal Regulations is amended as follows:

PART 73—[AMENDED]

1. The authority citation for part 73 continues to read as follows:

Authority: 47 U.S.C. 154, 303, 334. 336.

§ 73.202 [Amended]

2. Section 73.202(b), the Table of FM Allotments under Wyoming, is amended by adding Wamsutter, Channels 261C and 266A and Bairoil, Channel 281A.

Federal Communications Commission.
John A. Karousos,
Chief, Allocations Branch, Policy and Rules Division, Mass Media Bureau.

[FR Doc. 00-18754 Filed 7-24-00; 8:45 am]

BILLING CODE 6712-01-P